DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet in person and via web conference on March 20, 2018, from 10:00 a.m. to 3:00 p.m. EDT, and March 21, 2018 from 10:00 a.m. to 2:00 p.m. EDT.

The Board will meet in open session on March 20, 2018, from 10:00 a.m. to 1:00 p.m., to provide updates on the Mandatory Guidelines for Federal Workplace Drug Testing Programs, hear from our federal partners and early observations from the synthetic opioid testing implementation, review research data on a marijuana vaping study, and a brief update on the Medical Review Officer (MRO) Guidance Manual and 2018 MRO Guidance Manual Case Studies.

The board will meet in closed session on March 20, 2018, from 2:00 p.m. to 3:00 p.m. EDT and on March 21, 2018, from 10:00 a.m. to 2:00 p.m. EDT to discuss the proposed Mandatory Guidelines for Federal Workplace Drug Testing Programs (oral fluid), and the Mandatory Guidelines for Federal Workplace Drug Testing Programs (hair specimen). Therefore, these portions of the meeting are closed to the public as determined by the Assistant Secretary, SAMHSA, in accordance with 5 U.S.C. 552b(c)(4) and (9)(B), and 5 U.S.C. App. 2, Section 10(d).

Meeting registration information can be completed at http://snacregister.samhsa.gov/MeetingList.aspx. Web conference and call information will be sent after completing registration. Meeting information and a roster of DTAB members may be obtained by accessing the SAMHSA Advisory Committees website, http://www.samhsa.gov/about-us/advisory-councils/drug-testing-advisory-board-dtab or by contacting the Designated Federal Officer, CAPT Sean J. Belouin, USPHS.

Committee Name: Substance Abuse and Mental Health Services Administration's Center for Substance Abuse Prevention Drug Testing Advisory Board.

Dates/Time/Type:

March 20, 2018, from 10:00 a.m. to 1:00 p.m., EDT: Open.

March 20, 2018, from 2:00 p.m. to 3:00 p.m., EDT: Closed.

March 21, 2018, from 10:00 a.m. to 2:00 p.m., EDT: Closed.

Place: Parklawn Building, Room 5A03, 5600 Fishers Lane, Rockville, Maryland 20857.

Contact: CAPT Sean J. Belouin, USPHS, Senior Pharmacology and Regulatory Policy Advisor, Division of Workplace Programs, 5600 Fishers Lane, Room 16N06D, Rockville, Maryland 20857, Telephone: (240) 276-2600, Email: sean.belouin@samhsa.hhs.gov.

Charles LoDico,
Chemist.

[FR Doc. 2018-03897 Filed 2-26-18; 8:45 am]

BILLING CODE 4162-20-P